DEPARTMENT OF HOMELAND SECURITY

Federal Emergency Management Agency

44 CFR Parts 17 and 21

RIN 1660-AA13

Governmentwide Debarment and Suspension (Nonprocurement); Withdrawal

AGENCY: Federal Emergency Management Agency (FEMA), Emergency Preparedness and Response Directorate, Department of Homeland Security (DHS).

ACTION: Withdrawal of notice of proposed rulemaking.

SUMMARY: On January 23, 2002, FEMA and other agencies published a common rule notice entitled “Governmentwide Debarment and Suspension (Nonprocurement) and Governmentwide Requirements for Drug-Free Workplace (Grants),” (67 FR 3265). FEMA is now an agency under DHS, which will publish its own rule governing these matters; therefore, FEMA is withdrawing this notice of proposed rulemaking for this common rule.

DATES: Effective Date: Effective May 3, 2004.

FOR FURTHER INFORMATION CONTACT: Edward Broyles, Federal Emergency Management Agency, 500 C Street, SW., Room 840, Washington, DC 20472, (phone) 202-646-3961, (facsimile) 202-646-4536, or (e-mail) Edward.Broyles@dhs.gov.

SUPPLEMENTARY INFORMATION: On January 23, 2002, FEMA and other agencies published a common rule notice for proposed rulemaking entitled “Governmentwide Debarment and Suspension (Nonprocurement) and Governmentwide Requirements for Drug-Free Workplace (Grants),” (67 FR 3265). FEMA is now an agency under DHS, which will publish its own rule governing these matters; therefore, FEMA is withdrawing this notice of proposed rulemaking for this common rule.

Authority: 41 U.S.C. 701 et seq.; E.O. 12549, 51 FR 6370, 3 CFR, 1986 Comp., p. 189; E.O. 12689, 54 FR 34131, 3 CFR, 1989 Comp., p. 235.

Dated: April 27, 2004.
Michael D. Brown,
Under Secretary, Emergency Preparedness and Response, Department of Homeland Security.

[FR Doc. 04-9984 Filed 4-30-04; 8:45 am]

BILLING CODE 9110-10-P